CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Social Innovation Fund Progress Report and Performance Measure Module for review and approval in accordance with the Paperwork Reduction Act of 1995, Public Law 104-13, (44 U.S.C. Chapter 35). Copies of this ICR, with applicable supporting documentation, may be obtained by calling the Corporation for National and Community Service, Keisha Kersey, at 202-606-3905 or email to kkersey@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 10, 2013. This comment period ended September 9, 2013. We received one comment from the public regarding the potential additional burden of collecting the information quarterly and of collecting performance measures by subgrantees, and that some of the information to be collected was duplicative. We have addressed these comments in the following ways. First, only first year grantees will submit progress reports quarterly. All other grantees will submit reports on a biannual basis. Second, we will not be collecting performance measures by subgrantees and will continue to collect performance measures in aggregate by the intermediary. Finally, grantees will no longer submit performance measures via the project plan in eGrants, but will provide that information in one place in the data supplement, preventing duplication per the concerns of the commenter.

Description: In an attempt to streamline data collection processes and reduce reporting burdens, the Social Innovation Fund is revising the way in which it collects performance progress information from grantees. These revisions include a revised progress report, a Data Supplement, and a new performance measure module.

Type of Review: New.

Agency: Corporation for National and Community Service.

Title: Social Innovation Fund Progress Report and Performance Measure Module.

OMB Number: TBD.

Agency Number: None.

Affected Public: Social Innovation Fund grantees.

Total Respondents: 27.

Frequency: The information will be collected biannually for existing grantees and quarterly for first year grantees.

Average Time per Response: 3 hours.

Estimated Total Burden Hours: 81.

Total Burden Cost (capital/startup): None.

Total Burden Cost (operating/maintenance): None.

Dated: January 9, 2015.
Melissa Bradley,
Interim Director.

[FR Doc. 2015-00448 Filed 1-13-15; 8:45 am]

BILLING CODE 6050-28-P